DEPARTMENT OF HEALTH AND HUMAN SERVICES

Administration for Children and Families

Administration on Children, Youth and Families, Children's Bureau; Consortium for Longitudinal Studies of Child Abuse and Neglect (LONGSCAN)

Announcement Type: Initial.

Funding Opportunity Number: HHS-2005-ACF-ACYF-CA-0087.

CFDA Number: 93.670.

Due Dates for Applications: Application is due August 10, 2005.

Executive Summary: The purpose of these grants is to support a fourth implementation phase of the Consortium for Longitudinal Studies of Child Abuse and Neglect, which is conducting and coordinating prospective studies of young children who are at risk or who have already experienced maltreatment. These studies are expected to contribute to the knowledge of the etiology and consequences of child maltreatment, and provide new insights into the prevention, identification and treatment of maltreatment.

Priority Area 1

I. Funding Opportunity Description

The purpose of these grants is to support a fourth implementation phase of the Consortium for Longitudinal Studies of Child Abuse and Neglect, which is conducting and coordinating prospective studies of young children who are at risk or who have already experienced maltreatment. These studies are expected to contribute to the knowledge of the etiology and consequences of child maltreatment, and provide new insights into the prevention, identification and treatment of maltreatment.

Background

LONGSCAN is a consortium of prospective studies designed to examine the life course of young children who are at risk of maltreatment or who have already been maltreated. Currently, the total projected sample size is about 1,500 children who are recruited at age four or younger. Baseline data is collected through child and primary caretaker interviews on all children in each of the studies at age four. Teacher assessments on each child are collected at subsequent follow-ups after the child enters school. The studies use common data collection instruments and a common developmental perspective so that applied analyses of data as well as comparisons among sites and site-specific analyses can be accomplished. To date, the specific common measurement batteries have been selected for ages four, six, eight and twelve, and data have been collected on twelve-year-olds in some sites. Tracking is carried out annually. Each site is responsible for selecting and maintaining a sample to follow at the designated data points for up to twenty years. The study duration of twenty years has been selected for conceptual reasons only, and the actual duration of the effort will be contingent upon the availability of financial support.

The Principal Investigators have signed and abide by a Governance Agreement that describes the operating structure of the Executive Board and seven Committees (Publication, Measures, Human Subjects, Communication, Field Procedures and Tracking, Data Handling and Analysis, Funding and Development) and policies related to ownership, local analysis and authorship. The Executive Board and Committees meet twice a year and use the Internet in between to discuss issues that arise and to reach agreement on the most appropriate procedures and actions to take.

Samples of children for the five sites vary by their level of risk and exposure to maltreatment. The studies include children identified at birth as at risk; children identified as at risk in pediatric clinics during their first year of life; children identified as at risk due to a report to a child protective services agency; children in treatment because of maltreatment; and children who have been removed from their families and placed in foster care following maltreatment. In addition to the common measures, each site also is collecting data. For example, one site has recruited children in their first year of life and has a special focus on use of videotaped observations of parent-child interactions as a means of assessing attachment and bonding. Two sites are obtaining information on the role of the fathers in caring for the children.

As the grantees complete their fifteenth year of work, the sites have completed recruitment of their samples; collected site-specific data; selected, piloted and trained on administering measures for the age four, six, eight, and twelve, fourteen, and sixteen-year old follow-ups; developed procedures and conducted annual contact interviews with the samples; developed forms; and conducted CPS record reviews for their samples.

During the first fifteen years of implementation, the Coordinating Center has provided for coordination of cross-site activities including measurement selection and development; production of instruments, operational manuals and training for site staff; development of the data entry system and training of site staff in entry and analysis; receipt and checks for the data; development, maintenance, documentation and distribution to sites of datasets; and conducted cross-site analyses. All sites will have completed the data collection on the four-, six-, and eight-year-olds, and most will have completed the data collection for twelve-year-olds. Consortium members have written papers and presented individually and on panels at various national professional conferences.

The Administration on Children, Youth and Families' (ACYF) Children's Bureau seeks to fund a fourth phase of the Consortium for Longitudinal Studies to enable the completion of all data collection for children at ages twelve and sixteen in these samples, and to begin data collection from older participants as appropriate. Variations in subject recruitment have resulted in a range in the ages of the children in the studies so that, although data collection from eight-year-olds will have just been completed in one site, at least four of the five sites will be well into the age 16 follow-up during this period. It is also expected that a common measurement battery will be developed and used for the follow-ups as the sample moves from adolescence into adulthood. This phase of funding will provide for data analyses and findings for baseline and follow-up of the samples through age twelve, and preliminary analyses for the developmental transition through adolescence and into adulthood.

In this, the fourth phase, the Children's Bureau again intends to award up to six separate grants: five to Satellite Sites and one to a stand-alone Coordinating Center. Each Satellite Site and Coordinating Center applicant is expected to submit an individual application in response to this priority area.

The Children's Bureau is committed to the process of secondary data analysis for the purpose of verification and extension of research findings. To that end, the applicant(s) will agree to archive data from the study with the National Data Archive on Child Abuse and Neglect within two years of the termination of Federal funding for the project. The applicant's Institutional Review Board and research participants should be made aware that the data from the project will be archived and made available to other researchers after personal identifiers have been removed. Archiving will involve providing individual respondent data in electronic form and the accompanying documentation, including the codebook, the final report, and copies of the research instruments, as appropriate. A manual describing the guidelines of the Archive, ‘Depositing Data with the National Data Archive on Child Abuse and Neglect: A Handbook for Investigators,’ is available from the Archive directly at the Family Life Development Center, MVR Hall, Cornell University, Ithaca, NY 14853 (phone: (607) 255-7799), from the Archive Web site at www.ndacan.cornell.edu, or from the National Clearinghouse on Child Abuse and Neglect Information.

History

In Fiscal Year 1989, the National Center on Child Abuse and Neglect (NCCAN), which was the predecessor to the Office on Child Abuse and Neglect (OCAN), an office in the Children's Bureau, funded two successful applicants in response to the priority area for the Consortium for Longitudinal Studies of Child Maltreatment. The University of North Carolina at Chapel Hill and the Juvenile Protective Association in Chicago were awarded a planning grant as a ‘central grantee’ and ‘satellite grantee,’ respectively. The planning grant successfully developed a plan for a longitudinal study. The original announcement stated that upon completion of this planning year, a central grantee and up to three satellites would be funded for a five-year period and possibly longer, pending statutory authority and the availability of funds. The announcement went on to state that additional satellite projects could be funded in the future.

In FY 1990 and FY 1991, NCCAN awarded five-year grants to the University of North Carolina at Chapel Hill and the Juvenile Protective Association for the implementation of the Consortium for Longitudinal Studies of Child Maltreatment. The University of North Carolina received the award as the central grantee (Coordinating Center) and for two Satellite Sites (in North Carolina and Seattle); and the Juvenile Protective Association received the award for a satellite grantee (in Chicago), thus implementing the proposed plan for the Consortium Coordinating Center and three Satellite Sites.

In FY 1990, the San Diego State University Foundation received a grant in response to the priority area on Psychological Impact of Child Maltreatment, and by FY 1991, had signed an agreement to participate as a Satellite Site in the Consortium.

In FY 1991, the University of Maryland at Baltimore received a grant in response to the priority area on Field Initiated Research for Child Abuse and Neglect, and agreed, as part of their application, to coordinate with the Consortium for Longitudinal Studies. The University of Maryland at Baltimore also signed an agreement to participate as a satellite site in the Consortium. With the award of this grant in 1991, the Consortium comprised the Coordinating Center and five Satellite Sites.

In FY 1995, a limited competition was held to continue the Consortium for Longitudinal Studies and all existing grantees were awarded new grants. In FY 2000, a limited competition was again held, with each of the satellite sites becoming eligible to receive an individual grant. Currently, the Coordinating Center grant is awarded to the University of North Carolina, and satellite site grants are awarded to the University of North Carolina, the University of Maryland, San Diego Children's Hospital, the Juvenile Protective Association in Chicago, and the Washington State Department of Social and Health Services.

The collaborative effort in which these grantees are involved is multi-disciplinary and has taken the name of the LONGSCAN Consortium. In this priority area, the Children's Bureau has sought to address the needs identified by the report from the National Research Council (1995) for collaborative, longitudinal studies in a developmental framework and theory-based longitudinal research to examine the antecedents and consequences of child abuse and neglect.

Legislative Authority

The Child Abuse Prevention and Treatment Act Section 105 (b)(5) (42 U.S.C. 5106).

Projects funded under this announcement will be expected to:

1. Have the project fully functioning within 90 days following the notification of the grant award.

2. Participate if the Children's Bureau chooses to do a national evaluation or a technical assistance contract that relates to this funding announcement.

3. Submit all performance indicator data, program and financial reports in a timely manner, in recommended format (to be provided), and submit the final report on disk or electronically using a standard word-processing program.

4. Submit a copy of the final report, the evaluation report, and any program products to the National Clearinghouse on Child Abuse and Neglect Information, 330 C Street, SW., Washington, DC 20447, within 90 days of project end date. This is in addition to the standard requirement that the final program and evaluation report must also be submitted to the Grants Management Specialist and the Federal Project Officer.

5. Allocate sufficient funds in the budget to:

(a) Provide for the project director, the evaluator and a child welfare representative to attend an annual 3-day grantees' meeting in Washington, DC.

(b) Provide for the project director, the evaluator and a child welfare representative to attend an early kickoff meeting for grantees funded under this priority area to be held within the first three months of the project (first year only) in Washington, DC and

(c) Provide for 10-15 percent of the proposed budget to project evaluation.

II. Award Information

Funding Instrument Type: Cooperative Agreement.

Federal Substantial Involvement With Cooperative Agreement

A cooperative agreement is a specific method of awarding Federal assistance in which substantial Federal involvement is anticipated. A cooperative agreement clearly defines the respective responsibilities of the Children's Bureau and the grantee prior to the award. The Children's Bureau anticipates that agency involvement will produce programmatic benefits to the recipient otherwise unavailable to them for carrying out the project. The involvement and collaboration includes Children's Bureau review and approval of planning stages of the activities before implementation phases may begin; Children's Bureau involvement in the establishment of policies and procedures that maximize open competition, and rigorous and impartial development, review and funding of grant or sub-grant activities, if applicable; and Children's Bureau and recipient joint collaboration in the performance of key programmatic activities (i.e., strategic planning, implementation, information technology enhancements, training and technical assistance, publications or products, and evaluation). It also includes close monitoring by the Children's Bureau of the requirements stated in this announcement that limit the grantee's discretion with respect to scope of services offered, organizational structure and management processes, coupled with close Children's Bureau monitoring during performance, which may, in order to ensure compliance with the intent of this funding, exceed those Federal stewardship responsibilities customary for grant activities.

Anticipated Total Priority Area Funding: $1,750,000.

Anticipated Number of Awards: 1 to 6.

Ceiling on Amount of Individual Awards Per Budget Period: $500,000.

Average Projected Award Amount: $500,000.

Length of Project Periods: 60-month project with five 12-month budget periods.

Other

Explanation of Other: In the first budget period, the maximum Federal share of each of the five Satellite Sites is not to exceed $250,000, and the maximum Federal share of the Coordinating Center is not to exceed $500,000. The projects awarded will be for a project period of 60 months. The initial grant award will be for a 12-month budget period. The award of continuation beyond each 12-month budget period will be subject to the availability of funds, satisfactory progress on the part of the grantee, and a determination that continued funding would be in the best interest of the government.

Floor on amount of individual awards: None.

III. Eligibility Information

1. Eligible Applicants

Others. (See Additional Information on Eligibility below.)

Additional Information on Eligibility

Eligibility is limited to current grantees who are members of the Consortium for Longitudinal Studies: The University of North Carolina, Chapel Hill; San Diego State University Foundation, San Diego; the Juvenile Protective Association, Chicago; the Department of Social and Health Services, Olympia, Washington; the University of Maryland at Baltimore.

2. Cost Sharing/Matching

Cost Sharing/Matching: None.

3. Other Eligibility Information

All applicants must have a Dun & Bradstreet number. On June 27, 2003 the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Non-profit organizations applying for funding are required to submit proof of their non-profit status.

Proof of non-profit status is any one of the following:

• A reference to the applicant organization's listing in the Internal Revenue Service's (IRS) most recent list of tax-exempt organizations described in the IRS Code.

• A copy of a currently valid IRS tax exemption certificate.

• A statement from a State taxing body, State attorney general, or other appropriate State official certifying that the applicant organization has a non-profit status and that none of the net earning accrue to any private shareholders or individuals.

• A certified copy of the organization's certificate of incorporation or similar document that clearly establishes non-profit status.

• Any of the items in the subparagraphs immediately above for a State or national parent organization and a statement signed by the parent organization that the applicant organization is a local non-profit affiliate.

Disqualification Factors

Applications that exceed the ceiling amount will be considered non-responsive and will not be considered for funding under this announcement.

Any application that fails to satisfy the deadline requirements referenced in Section IV.3 will be considered non-responsive and will not be considered for funding under this announcement.

IV. Application and Submission Information

1. Address To Request Application Package

ACYF Operations, The Dixon Group, Attn: Children's Bureau, 118 Q St., NE., Washington, DC 20002-2132. Phone: (866) 796-1591. URL: http://www.acf.hhs.gov/grants/open/HHS-2005-ACF-ACYF-CA-0001.html.

2. Content and Form of Application Submission

You may submit your application to us in either electronic or paper format. To submit an application electronically, please use the http://www.Grants.gov apply site. If you use Grants.gov, you will be able to download a copy of the application package, complete it off-line, and then upload and submit the application via the Grants.gov site. You may not e-mail an electronic copy of a grant application to us.

Please note the following if you plan to submit your application electronically via Grants.Gov:

• Electronic submission is voluntary, but strongly encouraged.

• When you enter the Grants.Gov site, you will find information about submitting an application electronically through the site, as well as the hours of operation. We strongly recommend that you do not wait until the application deadline date to begin the application process through Grants.Gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families (ACF) will retrieve your application from Grants.gov.

• We may request that you provide original signatures on forms at a later date.

• You may access the electronic application for this program on www.Grants.gov.

• You must search for the downloadable application package by the CFDA number.

Applicants that are submitting their application in paper format should submit an original and two copies of the complete application. The original and each of the two copies must include all required forms, certifications, assurances, and appendices, be signed by an authorized representative, have original signatures, and be submitted unbound.

Private non-profit organizations are encouraged to submit with their applications the survey located under “Grant Related Documents and Forms”, “Survey for Private, Non-Profit Grant Applicants”, titled “Survey on Ensuring Equal Opportunity for Applicants”, at http://www.acf.hhs.gov/programs/ofs/forms.htm.

Each application must contain the following items in the order listed:

Application for Federal Assistance (Standard Form 424). Follow the instructions below and those that accompany the form.

In Item 5 of Form 424, put DUNS number in “Organizational DUNS:” box.

In Item 5 of Form 424, include name, phone number, and, if available, e-mail and fax numbers of the contact person.

In Item 8 of Form 424, check ‘New.’

In Item 10 of Form 424, clearly identify the Catalog of Federal Domestic Assistance (CFDA) program title and number for the program for which funds are being requested as stated in this funding opportunity announcement.

In Item 11 of Form 424, identify the single funding opportunity the application addresses.

In Item 12 of Form 424, identify the specific geographic area to be served.

In Item 14 of Form 424, identify Congressional districts of both the applicant and project.

Budget Information Non-Construction Programs (Form 424A) and Budget Justification

Follow the instructions provided here and those in Section V. Application Review Information.

Certifications/Assurances. Applicants requesting financial assistance for non-construction projects must file the Standard Form 424B, ‘Assurances: Non-Construction Programs.' Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification regarding environmental tobacco smoke. By signing and submitting the application, the applicant is providing the certification and need not mail back the certification with the applications.

If applicable, applicants must include a completed SPOC certification (Single Point of Contact) with the date of the SPOC contact entered in line 16, page 1 of the Form 424.

Project Use of Human Subjects. If your evaluation plan includes gathering data from or about clients, there are specific procedures which must be followed in order to protect their privacy and ensure the confidentiality of the information about them. Applicants planning to gather such data are asked to describe their plans regarding an Institutional Review Board (IRB) review. If applicable, applicants must include a completed Form 310, Protection of Human Subjects. For more information about use of human subjects and IRB's you can visit these Web sites: http://www.hhs.gov/ohrp/irb/irb_chapter2.htm#d2 and http://www.hhs.gov/ohrp/humansubjects/guidance/ictips.htm.

Description. Please see Section V.1. Criteria, for instructions on preparing the project summary/abstract and the full project description.

Proof of non-profit status (if applicable). Please see Section III.3 Other Eligibility for ways to demonstrate non-profit status.

Indirect cost rate agreement. If claiming indirect costs, provide documentation that applicant currently has an indirect cost rate approved by the Department of Health and Human Services (HHS) or another cognizant Federal agency.

Letters of agreement and memoranda of understanding. If applicable, include a letter of commitment or Memorandum of Understanding from each partner and/or sub-contractor describing their role, detailing specific tasks to be performed, and expressing commitment to participate if the proposed project is funded.

General Content and Form information: The application limit is 75 pages total including all forms and attachments. Pages over this page limit will be removed from the application and will not be reviewed.

The application must be typed, double spaced, printed on only one side, with at least ½ inch margins on each side and 1 inch at the top and bottom, using standard 12 Point fonts (such as Times New Roman or Courier). Pages must be numbered.

All copies of an application must be submitted in a single package, and a separate package must be submitted for each funding opportunity. The package must be clearly labeled for the specific funding opportunity it is addressing.

Because each application will be duplicated, do not use or include separate covers, binders, clips, tabs, plastic inserts, maps, brochures, or any other items that cannot be processed easily on a photocopy machine with an automatic feed. Do not bind, clip, staple, or fasten in any way separate subsections of the application, including supporting documentation; however, each complete copy must be stapled securely in the upper left corner. Applicants are advised that the copies of the application submitted, not the original, will be reproduced by the Federal government for review.

Tips for Preparing a Competitive Application. It is essential that applicants read the entire announcement package carefully before preparing an application and include all of the required application forms and attachments. The application must reflect a thorough understanding of the purpose and objectives of the applicable legislation. Reviewers expect applicants to understand the goals of the legislation and the Children's Bureau's interest in each topic. A “responsive application” is one that addresses all of the evaluation criteria in ways that demonstrate this understanding. Applications that are considered to be “unresponsive” generally receive very low scores and are rarely funded.

The Children's Bureau's Web site (http://www.acf.dhhs.gov/programs/cb) provides a wide range of information and links to other relevant web sites. Before you begin preparing an application, we suggest that you learn more about the mission and programs of the Children's Bureau by exploring the Web site.

Organizing Your Application. The specific evaluation criteria in Section V of this funding announcement will be used to review and evaluate each application. The applicant should address each of these specific evaluation criteria in the project description. Applicants should organize their project description in this sequence: (1) Objectives and Need for Assistance; (2) Approach; (3) Organizational Profiles; (4) Budget and Budget Justification and should use the same headings as these criteria, so that reviewers can readily find information that directly addresses each of the specific review criteria.

Project Evaluation Plan. Project evaluations are very important. If you do not have the in-house capacity to conduct an objective, comprehensive evaluation of the project, then the Children's Bureau advises that you propose contracting with a third-party evaluator specializing in social science or evaluation, or a university or college, to conduct the evaluation. A skilled evaluator can assist you in designing a data collection strategy that is appropriate for the evaluation of your proposed project. Additional assistance may be found in a document titled “Program Manager's Guide to Evaluation.” A copy of this document can be accessed at http://www.acf.hhs.gov/programs/core/pubs_reports/prog_mgr.html or ordered by contacting the National Clearinghouse on Child Abuse and Neglect Information, 330 C Street, SW., Washington, DC 20447; phone (800) 394-3366; fax (703) 385-3206; e-mail nccanch@calib.com.

Logic Model. A logic model is a tool that presents the conceptual framework for a proposed project and explains the linkages among program elements. While there are many versions of the logic model, they generally summarize the logical connections among the needs that are the focus of the project, project goals and objectives, the target population, project inputs (resources), the proposed activities/processes/outputs directed toward the target population, the expected short- and long-term outcomes the initiative is designed to achieve, and the evaluation plan for measuring the extent to which proposed processes and outcomes actually occur. Information on the development of logic models is available on the Internet at http://www.uwex.edu/ces/pdande/ or http://www.extension.iastate.edu/cyfar/capbuilding/outcome/outcome_logicmdir.html.

3. Submission Dates and Times

Due Date for Applications: August 10, 2005.

Explanation of Due Dates: The closing time and date for receipt of applications is 4:30 p.m. (Eastern Time Zone) on the date noted above. Mailed or hand carried applications received after 4:30 p.m. on the closing date will be classified as late.

Deadline: Mailed applications shall be considered as meeting an announced deadline if they are received on or before the deadline time and date at the ACYF Operations Center, c/o The Dixon Group, Inc., Attn: Children's Bureau, 118 Q Street NE., Washington, DC 20002-2132. Applicants are responsible for mailing applications well in advance, when using all mail services, to ensure that the applications are received on or before the deadline time and date.

Applications handcarried by applicants, applicant couriers, other representatives of the applicant, or by overnight/express mail couriers shall be considered as meeting an announced deadline if they are received on or before the deadline date, between the hours of 8 a.m. and 4:30 p.m., EST, at the ACYF Operations Center, c/o The Dixon Group, Inc., Attn: Children's Bureau, 118 Q Street NE., Washington, DC 20002-2132, between Monday and Friday (excluding Federal holidays). This address must appear on the envelope/package containing the application with the note. Applicants are cautioned that express/overnight mail services do not always deliver as agreed.

Receipt acknowledgement for application packages will not be provided to applicants who submit their package via mail, courier services, or by hand delivery. However, applicants will receive an electronic acknowledgement for applications that are submitted via http://www.Grants.gov.

Late applications: Applications which do not meet the criteria above are considered late applications. ACF shall notify each late applicant that its application will not be considered in the current competition. Any application received after 4:30 p.m. on the deadline date will not be considered for competition. Applicants using express/overnight mail services should allow two working days prior to the deadline date for receipt of applications. (Applicants are cautioned that express/overnight mail services do not always deliver as agreed).

Extension of deadlines: ACF may extend application deadlines when circumstances such as acts of God (floods, hurricanes, etc.) occur, or when there are widespread disruptions of mail service, or in other rare cases. A determination to extend or waive deadline requirements rests with the Chief Grants Management Officer.

Checklist: You may use the checklist below as a guide when preparing your application package.

What to submit | Required content | Required form or format | When to submit
Project Abstract | See Section IV and V | Format described in Section IV and V | By application due date.
Project Narrative | See Section IV and V | Format described in Section IV and V | By application due date.
SF424 | See Section IV | Format described in Section IV | By application due date.
SF424A | See Section IV | Format described in Section IV | By application due date.
SF424B | See Section IV | Format described in Section IV | By application due date.
Assurances and Certifications | See Section IV | Format described in Section IV | By time of award.
Proof of Non-profit status, if applicable | See Section III and IV | Format described in Section III | By time of award.
Indirect Cost rate Agreement, if applicable | See Section IV | Format described in IV | By time of award.
Letters of commitment from partner organizations, if applicable | See Section IV | Format described in IV | By time of award.

Additional Forms: Private, nonprofit organizations are encouraged to submit with their applications the survey located under “Grant Related Documents and Forms” titled “Survey for Private, Non-Profit Grant Applicants” at www.acf.hhs.gov/programs/ofs/forms.htm.

What to submit | Required content | Required form or format | When to submit
Survey for Private, Non-Profit Grant Applicants | Per required form | May be found on www.acf.hhs.gov/programs/ofs/forms.htm | With application.

4. Intergovernmental Review

State Single Point of Contact (SPOC)

This program is covered under Executive Order 12372, “Intergovernmental Review of Federal Programs,” and 45 CFR part 100, “Intergovernmental Review of Department of Health and Human Services Programs and Activities.” Under the Order, States may design their own processes for reviewing and commenting on proposed Federal assistance under covered programs.

As of October 1, 2004, the following jurisdictions have elected to participate in the Executive Order process: Arkansas, California, Delaware, District of Columbia, Florida, Georgia, Illinois, Iowa, Kentucky, Maine, Maryland, Michigan, Mississippi, Missouri, Nevada, New Hampshire, New Mexico, New York, North Dakota, Rhode Island, South Carolina, Texas, Utah, West Virginia, Wisconsin, American Samoa, Guam, North Mariana Islands, Puerto Rico, and Virgin Islands. As these jurisdictions have elected to participate in the Executive Order process, they have established SPOCs. Applicants from participating jurisdictions should contact their SPOC, as soon as possible, to alert them of prospective applications and receive instructions. Applicants must submit all required materials, if any, to the SPOC and indicate the date of this submittal (or the date of contact if no submittal is required) on the Standard Form 424, item 16a. Under 45 CFR 100.8(a)(2).

A SPOC has 60 days from the application deadline to comment on proposed new or competing continuation awards. SPOCs are encouraged to eliminate the submission of routine endorsements as official recommendations. Additionally, SPOCs are requested to clearly differentiate between mere advisory comments and those official State process recommendations which may trigger the “accommodate or explain” rule.

When comments are submitted directly to ACF, they should be addressed to the U.S. Department of Health and Human Services, Administration for Children and Families, Office of Grants Management, Division of Discretionary Grants, 370 L'Enfant Promenade SW., 4th floor, Washington, DC 20447.

Although the remaining jurisdictions have chosen not to participate in the process, entities that meet the eligibility requirements of the program are still eligible to apply for a grant even if a State, Territory, Commonwealth, etc. does not have a SPOC. Therefore, applicants from these jurisdictions that have or for projects administered by federally-recognized Indian Tribes, need take no action in regard to E.O. 12372.

The official list, including addresses, of the jurisdictions elected to participate in E.O. 12372 can be found on the following URL: http://www.whitehouse.gov/omb/grants/spoc.html.

5. Funding Restrictions

Grant awards will not allow reimbursement of pre-award costs.

Construction is not an allowable activity or expenditure under this solicitation.

Applicants should note that grants to be awarded under this program announcement are subject to the availability of funds. The size of the actual awards will vary.

6. Other Submission Requirements

Submission by Mail: An Application must provide an original application with all attachments, signed by an authorized representative and two copies. Please see Section IV.3 for an explanation of due dates. Applications should be mailed to: ACYF Operations Center, The Dixon Group, 118 Q St. NE., Washington, DC 20002-2132. Attention: Children's Bureau.

Hand Delivery: An Applicant must provide an original application with all attachments signed by an authorized representative and two copies. Please see Section IV.3 for an explanation of due dates. Applications should be delivered to: ACYF Operations Center, The Dixon Group, 118 Q St. NE., Washington, DC 20002-2132. Attention: Children's Bureau

Electronic Submission: http://www.grants.gov. Please see Section IV. 2 Content and Form of Application Submission, for guidelines and requirements when submitting applications electronically.

V. Application Review Information

The Paperwork Reduction Act of 1995 (Pub. L. 104-13)

Public reporting burden for this collection of information is estimated to average 40 hours per response, including the time for reviewing instructions, gathering and maintaining the data needed and reviewing the collection information.

The project description is approved under OMB control number 0970-0139 which expires 4/30/2007.

An agency may not conduct or sponsor, and a person is not required to respond to, a collection of information unless it displays a currently valid OMB control number.

The following are instructions and guidelines on how to prepare the “Project Summary/Abstract” and “Full Project Description” sections of the application. Under the evaluation criteria section, note that each criterion is preceded by the generic evaluation requirement under the ACF Uniform Project Description (UPD).

1. Criteria

General Instructions

ACF is particularly interested in specific project descriptions that focus on outcomes and convey strategies for achieving intended performance. Project descriptions are evaluated on the basis of substance and measurable outcomes, not length. Extensive exhibits are not required. Cross-referencing should be used rather than repetition. Supporting information concerning activities that will not be directly funded by the grant or information that does not directly pertain to an integral part of the grant funded activity should be placed in an appendix. Pages should be numbered and a table of contents should be included for easy reference.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement. Provide quantitative monthly or quarterly projections of the accomplishments to be achieved for each function or activity in such terms as the number of people to be served and the number of activities accomplished.

When accomplishments cannot be quantified by activity or function, list them in chronological order to show the schedule of accomplishments and their target dates. If any data is to be collected, maintained, and/or disseminated, clearance may be required from the U.S. Office of Management and Budget (OMB). This clearance pertains to any “collection of information that is conducted or sponsored by ACF.” List organizations, cooperating entities, consultants, or other key individuals who will work on the project along with a short description of the nature of their effort or contribution.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. If the applicant is a non-profit organization, submit proof of non-profit status in its application. The non-profit agency can accomplish this by providing: (a) A reference to the applicant organization's listing in the Internal Revenue Service's (IRS) most recent list of tax-exempt organizations described in the IRS Code; (b) a copy of a currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status; (e) any of the items immediately above for a State or national parent organization and a statement signed by the parent organization that the applicant organization is a local non-profit affiliate.

Budget and Budget Justification

Provide a budget with line item detail and detailed calculations for each budget object class identified on the Budget Information form. Detailed calculations must include estimation methods, quantities, unit costs, and other similar quantitative detail sufficient for the calculation to be duplicated. Also include a breakout by the funding sources identified in Block 15 of the SF-424. Provide a narrative budget justification that describes how the categorical costs are derived. Discuss the necessity, reasonableness, and allocability of the proposed costs.

General

Use the following guidelines for preparing the budget and budget justification. Both Federal and non-Federal resources shall be detailed and justified in the budget and narrative justification. “Federal resources” refers only to the ACF grant for which you are applying. “Non Federal resources” are all other Federal and non-Federal resources. It is suggested that budget amounts and computations be presented in a columnar format: first column, object class categories; second column, Federal budget; next column(s), non-Federal budget(s); and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those that belong under other categories such as equipment, supplies, construction, etc. Include third party evaluation contracts (if applicable) and contracts with secondary recipient organizations, including delegate agencies and specific project(s) or businesses to be financed by the applicant.

Justification: Demonstrate that all procurement transactions will be conducted in a manner to provide, to the maximum extent practical, open and free competition. Recipients and subrecipients, other than States that are required to use part 92 procedures, must justify any anticipated procurement action that is expected to be awarded without competition and exceed the simplified acquisition threshold fixed at 41 U.S.C. 403(11) (currently set at $100,000).

Recipients might be required to make available to ACF pre-award review and procurement documents, such as request for proposals or invitations for bids, independent cost estimates, etc. Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, upon notification that an award will be made, it should immediately develop a tentative indirect cost rate proposal based on its most recently completed fiscal year, in accordance with the cognizant agency's guidelines for establishing indirect cost rates, and submit it to the cognizant agency. Applicants awaiting approval of their indirect cost proposals may also request indirect costs. When an indirect cost rate is requested, those costs included in the indirect cost pool should not also be charged as direct costs to the grant. Also, if the applicant is requesting a rate which is less than what is allowed under the program, the authorized representative of the applicant organization must submit a signed acknowledgement that the applicant is accepting a lower rate than allowed.

Evaluation Criteria: The following evaluation criteria appear in weighted descending order. The corresponding score values indicate the relative importance that ACF places on each evaluation criterion; however, applicants need not develop their applications precisely according to the order presented. Application components may be organized such that a reviewer will be able to follow a seamless and logical flow of information (e.g. from a broad overview of the project to more detailed information about how it will be conducted.

In considering how applicants will carry out the responsibilities addressed under this announcement, competing applications for financial assistance will be reviewed and evaluated against the following criteria:

Approach (50 points)

Criterion 2: Approach (50 points). For Satellite Site applicants, reviewers will evaluate the extent to which applicants:

1. Demonstrate an understanding of the issues, problems, and benefits associated with being a Satellite Site, and with participating in the Consortium for Longitudinal Studies of Child Abuse and Neglect.

2. Describe activities undertaken during the first, second and third implementation phases and how the approach being proposed for the fourth five-year effort would build on this work; describe the study samples(s), provide details about what data have been collected within the sample(s) to date, and describe how attrition of the study samples(s) will be addressed.

3. Explain how the issues of research definitions of child abuse and neglect have been and will be addressed.

4. Propose an approach that is comprehensive and developmentally appropriate and reflects cultural sensitivity to the issues being addressed.

5. Describe the approach that will be employed for the specific functions of a Satellite Site, and demonstrate sufficient resources and the appropriate facilities for carrying out the project, as applicable.

6. Demonstrate an ability to gain access to necessary information.

7. Delineate data processing and documentation procedures, and indicate how aggregate or single site data analysis will be addressed, as applicable.

For Coordinating Center applicant, reviewers will evaluate the extent to which the applicant:

1. Demonstrates an understanding of the issues and problems that must be addressed in working with the Satellite Sites, and of coordinating the activities of the Consortium for Longitudinal Studies of Child Abuse and Neglect.

2. Describes the range of activities to be undertaken in the Coordinating Center.

3. Describes procedures for coordinating data collection efforts, including the development of common measurement protocols, training, and quality control procedures.

4. Delineates data management, processing and documentation procedures, and indicates how aggregate or single site data analysis will be addressed by either the Coordinating Center or by Satellite Sites, as applicable. Describes procedures for sharing data among Satellite Sites.

5. Describes plans for assisting with individual site data analyses for the Satellite Sites, or plans for site-specific comparisons among sites and/or pooled data analyses.

6. Projects the planned topics for analysis and publication over the proposed five-year project cycle. Justify the selection of topics in terms of (a) knowledge development to inform policy and improve practice in child welfare especially as it relates to child abuse and neglect and (b) all of the outcome measures discussed above but especially a reduction in recurrence of child abuse and/or neglect, reductions in incidence of child abuse and/or neglect in foster care.

7. Describes plans for providing Consortium datasets to the National Data Archive on Child Abuse and Neglect as described in this announcement.

For both Satellite Site and the Coordinating Center applicants, reviewers will evaluate the extent to which applicants:

1. Describe why you believe the project is innovative.

2. Provide information on articles, papers and presentations on the projects to date, as well as those planned; describe the strategies for the dissemination of the products, interim findings, as appropriate, and reports that would be of use to other researchers, policy-makers, and practitioners in the field.

3. Discuss how the issues of informed consent have been and will be addressed for the child, primary caregiver, teacher and record reviews; describe use of the Certificate of Confidentiality and how any legal and ethical issues that may arise will be addressed; and discuss how informed consent procedures address plans to archive the data at the National Data Archive on Child Abuse and Neglect.

Organizational Profiles (20 points)

Criterion 3: Organization Profiles (20 points). For both Satellite Site and Coordinating Center applicants, reviewers will evaluate the extent to which applicants:

1. Discuss staff and organizational experience specifically to conduct child maltreatment research and university or agency support, if applicable, to the organizational capabilities required for implementation of this activity.

2. Describe experience in working with child welfare agencies in collaborative efforts, if applicable.

3. Provide information on skills, knowledge and experience of the project director and key project staff (e.g., brief resumes of the current and proposed staff that indicate what position the individual will fill, as well as job descriptions that specifically describe the job as it relates to the proposed project).

4. List organizations and consultants who will work on the program along with a short description of the nature of their effort or contribution. Provide information on plans for training project staff as well as staff of cooperating organizations and individuals, if needed.

5. Provide a management plan that shows how the proposed project goals will be accomplished. List the activities to be conducted in chronological order, showing a reasonable schedule for accomplishing each task and target dates.

6. Describe the relationship between the proposed project and other work planned, anticipated or underway by the applicant with federal assistance.

Objectives and Need for Assistance (20 points)

Criterion 1: Objectives and Need for Assistance (20 points).For both Satellite Site and Coordinating Center applicants, reviewers will evaluate the extent to which applicants:

1. Discuss, concisely, the objectives and needs for longitudinal research on child abuse and neglect.

2. Discuss the merits of a multi-site, multi-sample study.

3. Discuss the general and overall goals of the LONGSCAN project specific to your application as the Coordinating Center or a Satellite Site.

4. Discuss the implications of the findings to date to future work.

5. Discuss how this work will benefit the field by enhancing policy, improving practice, and advancing science in child maltreatment research.

6. Discuss the significance to the field of the proposed project.

Budget and Budget Justification (10 points)

Criterion 4: Budget and Budget Justification (10 points). For both Satellite Site and Coordinating Center applicants, reviewers will evaluate the extent to which applicants:

1. Show that costs of the proposed program are reasonable and justified in terms of the application and the anticipated results and benefits. Discussion should refer to (1) the budget information presented on Standard Forms 424 and 424A and (2) the activities to be conducted.

2. Describe the fiscal control and accounting procedures that will be used to ensure prudent use, proper and timely disbursement and accurate accounting of funds received under this program announcement.

2. Review and Selection Process

Since ACF will be using non-Federal reviewers in the review process, applicants have the option of omitting from the application copies (not the original) of specific salary rates or amounts for individuals specified in the application budget.

No grant award will be made under this announcement on the basis of an incomplete application.

When the Operations Center receives your application it will be screened to confirm that your application was received by the deadline. Federal staff will verify that you are an eligible applicant and that the application contains all the essential elements. Applications received from ineligible organizations and applications received after the deadline will be withdrawn from further consideration.

A panel of at least three reviewers (primarily experts from outside the Federal government) will use the evaluation criteria described in this announcement to evaluate each application. The reviewers will determine the strengths and weaknesses of each application, provide comments about the strengths and weaknesses and give each application a numerical score.

The results of the competitive review are a primary factor in making funding decisions. In addition, Federal staff conducts administrative reviews of the applications and, in light of the results of the competitive review, will recommend applications for funding to the ACYF Commissioner. ACYF reserves the option of discussing applications with other funding sources when this is in the best interest of the Federal government. ACYF may also solicit and consider comments from ACF Regional Office staff in making funding decisions. ACYF may take into consideration the involvement (financial and/or programmatic) of the private sector, national, or State or community foundations; a favorable balance between Federal and non-Federal funds for the proposed project; or the potential for high benefit from low Federal investment. ACYF may elect not to fund any applicants having known management, fiscal, reporting, programmatic, or other problems which make it unlikely that they would be able to provide effective services or effectively complete the proposed activity.

With the results of the peer review and the information from Federal staff, the Commissioner of ACYF makes the final funding decisions. The Commissioner may give special consideration to applications proposing services of special interest to the Government and to achieve geographic distributions of grant awards. Applications of special interest may include, but are not limited to, applications focusing on unserved or inadequately served clients or service areas and programs addressing diverse ethnic populations.

Approved But Unfunded Applications

Applications that are approved but unfunded may be held over for funding in the next funding cycle, pending the availability of funds, for a period not to exceed one year.

3. Anticipated Announcement and Award Dates

Applications will be reviewed in the summer of 2005. Grant awards will have a start date no later than September 30, 2005.

VI. Award Administration Information

1. Award Notices

The successful applicants will be notified through the issuance of a Financial Assistance Award document which sets forth the amount of funds granted, the terms and conditions of the grant, the effective date of the grant, the budget period for which initial support will be given, the non-Federal share to be provided (if applicable), and the total project period for which support is contemplated. The Financial Assistance Award will be signed by the Grants Officer and transmitted via postal mail.

Organizations whose applications will not be funded will be notified in writing.

2. Administrative and National Policy Requirements

Grantees are subject to the requirements in 45 CFR part 74 (non-governmental) or 45 CFR part 92 (governmental) organizations.

Direct Federal grants, sub-award funds, or contracts under this Program shall not be used to support inherently religious activities such as religious instruction, worship, or proselytization. Therefore, organizations must take steps to separate, in time or location, their inherently religious activities from the services funded under this Program. Regulations pertaining to the prohibition of Federal funds for inherently religious activities can be found on the HHS Web site at http://www.os.dhhs.gov/fbci/waisgate21.pdf.

3. Reporting Requirements

Program Progress Reports: Semi-Annually.

Financial Reports: Semi-Annually.

Grantees will be required to submit program progress reports and financial reports (SF269) throughout the project period. Program progress and financial reports are due 30 days after the reporting period. In addition, final programmatic and financial reports are due 90 days after the close of the project period.

VII. Agency Contacts

Program Office Contact

Mary Bruce Webb, Child Outcomes Research and Evaluation, OPRE, 370 L'Enfant Promenade, SW., Washington, DC 20447. Phone: (202) 205-8628 E-mail: mbwebb@acf.hhs.gov.

Grants Management Office Contact

Peter Thompson, Grants Officer, Administration for Children and Families, Children's Bureau, 330 C Street, SW. Room 2070, Washington, DC 20447. Phone: (202) 401-4608. E-mail: pathompson@acf.hhs.gov.

VIII. Other Information

Notice: Beginning with FY 2006, the Administration for Children and Families (ACF) will no longer publish grant announcements in the Federal Register. Beginning October 1, 2005 applicants will be able to find a synopsis of all ACF grant opportunities and apply electronically for opportunities via: www.Grants.gov. Applicants will also be able to find the complete text of all ACF grant announcements on the ACF Web site located at: http://www.acf.hhs.gov/grants/index.html.

Additional information about this program and its purpose can be located on the following Web sites: http://www.acf.hhs.gov/programs/cb/.

For general questions regarding this announcement please contact:

ACYF Operations Center, The Dixon Group, Attn: Children's Bureau, 118 Q Street, NE., Washington, DC 20002-2132. Telephone: (866) 796-1591.

Please reference Section IV.3 for details about acknowledgement of received applications.

Dated: June 28, 2005.
Joan E. Ohl,
Commissioner, Administration on Children, Youth and Families.

[FR Doc. 05-13075 Filed 6-30-05; 8:45 am]

BILLING CODE 4184-01-P